OFFICE OF PERSONNEL MANAGEMENT

Request for Reinstatement With Change of a Previously Approved Collection: Certificate of Medical Examination, OF 178, 3206-0250

AGENCY: Office of Personnel Management.

ACTION: 60-day notice and request for comments.

SUMMARY: The Office of Personnel Management (OPM) offers the general public and other Federal agencies the opportunity to comment on the reinstatement with change of a previously approved collection information collection request (ICR) 3206-0250, Certificate of Medical Examination. As required by the Paperwork Reduction Act of 1995, as amended by the Clinger-Cohen Act, OPM is soliciting comments for this collection.

DATES: Comments are encouraged and will be accepted until October 19, 2020. This process is conducted in accordance with 5 CFR 1320.1.

ADDRESSES: You may submit comments, identified by docket number and/or Regulatory Information Number (RIN) and title, by any of the following methods:

• Federal Rulemaking Portal: http://www.regulations.gov. Follow the instructions for submitting comments;

All submissions received must include the agency name and docket number or RIN for this document. The general policy for comments and other submissions from members of the public is to make these submissions available for public viewing at http://www.regulations.gov as they are received without change, including any personal identifiers or contact information.

FOR FURTHER INFORMATION CONTACT: Monica Butler at (202) 606-0960; by fax at (202) 606-4430, TDD at (202) 418-3134, or by email at employ@opm.gov.

SUPPLEMENTARY INFORMATION: The Optional Form (OF) 178, Certificate of Medical Examination, is used to collect medical information about individuals who are incumbents of positions which require physical fitness/agility testing and/or medical examinations, or who have been selected for such a position contingent upon meeting physical fitness/agility testing and medical examinations as a condition of employment. This information is needed to ensure fair and consistent treatment of employees and job applicants, to adjudicate the medically based pass-over of a preference eligible, and to adjudicate claims of discrimination under the Americans with Disabilities Act (ADA).

The current approval of the OF 178 Certificate of Medical Examination expired in April 2015. This Federal Register notice opens a 60-day comment period giving the general public and other Federal agencies the opportunity to comment on the reinstatement of this previously approved information collection form. There were four minor changes to the form. The date of the form was updated to December 2014. The reference to Recruitment and Hiring in line 4 of the Public Burden Statement on page 1 was updated to Talent Acquisition and Workforce Shaping. A fillable text box was inserted under “Specific hearing requirements (specify)” on page 3. The data fields for “Name”, “Last 4 digits of Social Security Number” and “Date” located at the bottom of pages 2-7 were updated to “Applicant/Employee” and added to pages 2-7.

The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Talent Acquisition and Workforce Shaping, Employee Services, Office of Personnel Management.

Title: Certificate of Medical Examination.

OMB Number: 3206-0250.

Frequency: Annually.

Affected Public: Federal Government.

Number of Respondents: 45,000.

Estimated Time per Respondent: 3 hours.

Total Burden Hours: 135,000 hours.

Office of Personnel Management.
Alexys Stanley,
Regulatory Affairs Analyst.

[FR Doc. 2020-18257 Filed 8-19-20; 8:45 am]

BILLING CODE 6325-39-P